DEPARTMENT OF THE INTERIOR

Bureau of Land Management

[NV-020-1430-EU; N-27917, N-58996]

Opening of Public Lands; Nevada

AGENCY: Bureau of Land Management, Interior.

ACTION: Correction of the legal Description of the notice of termination of Desert Land Entry Classification and Segregation; Nevada.

SUMMARY: This action corrects the legal description for a notice to terminate the desert-land classification N-58996, dated April 8, 1982, also to terminate the segregation of Desert Land Entry Application N-27917, published in the Federal Register on pages 18498-18499, Volume 66, Number 68, Document ID: fr09ap01-77, on April 9, 2001.

EFFECTIVE DATE: May 17, 2001.

FOR FURTHER INFORMATION CONTACT: Martha P. Smith, Bureau of Land Management, Winnemucca Field Office, 5100 East Winnemucca Boulevard, Winnemucca NV 89445 at (775) 623-1500.

SUPPLEMENTARY INFORMATION: The legal land description in the Notice of Termination of Desert Land Entry Classification and Segregation; Nevada, published on April 9, 2001, is hereby corrected as follows: The legal description was cited as: T. 40 N., R. 39 E., Sec. 36: NE¼SE¼, N½SE¼SE¼, but it should have read: T. 40 N., R. 38 E., Sec. 36: NE¼SE¼, N½SE¼SE¼. Mount Diablo Meridian, Nevada.

Dated: May 1, 2001.
Terry A. Reed,
Field Manager.

[FR Doc. 01-12405 Filed 5-16-01; 8:45 am]

BILLING CODE 4310-HC-P